DEPARTMENT OF AGRICULTURE

Forest Service

Shasta Trinity National Forest, South Fork Management Unit, California Salt Timber Harvest and Fuels Hazard Reduction Project

AGENCY: Forest Service, USDA.

ACTION: Notice of intent to prepare an environmental impact statement.

SUMMARY: The Hayfork District of the Shasta Trinity National Forest is proposing to use vegetation treatments to improve forest health, reduce risks from fire and provide forest products on approximately 1,658 acres within the upper Salt Creek watershed on the South Fork Management Unit of the Shasta Trinity National Forest. Prescribed treatments are expected to produce approximately 4.8 million board feet or 10,600 hundred cubic feet (ccf) of merchantable sawtimber, and an estimated 4,710 bone dry tons of biomass. The Forest Service will analyze these vegetation treatments within the constraints of the Shasta Trinity National Forest Land and Resource Management Plan, 1995.

The proposed Salt project is in Trinity County, 10 air miles south of Hayfork, California and 3 air miles east of Post Mountain, California. The project area is within the Hayfork Adaptive Management Area (AMA), and Management Area 19, Indian Valley/Rattlesnake, of the Shasta-Trinity Land and Resource Management Plan (USFS 1995, p. 4-64 & 65). Treatment areas in T29N, R11W sections 4-9, T29N, R12W sections 1, 2 and 12, T30N, R11W sections 31 and 32, and T30N, R12W sections 25, 26, 35, and 36 M.D.M.

DATES: Comments concerning the scope of the analysis must be received by April 22, 2008 or 30 days after publication in the Federal Register, whichever is later. The draft environmental impact statement is expected in August, 2008 and the final environmental impact statement is expected January, 2009.

ADDRESSES: Please send written comments to Sandy Mack, TEAMS USFS Enterprise Unit, 1801 N. First, Hamilton, MT 59840-3114. Comments may also be submitted by e-mail to: comments-pacificsouthwest-shasta-trinity-yo11abollahayfork@fs.fed.us with “Salt Project” as the subject.

FOR FURTHER INFORMATION CONTACT: Sandy Mack, Project Team Leader, TEAMS USFS Enterprise Unit, 1801 N. First, Hamilton, MT 59840. Phone (406) 375-2638.

SUPPLEMENTARY INFORMATION:

Purpose and Need for Action

The purpose and need for the Salt project is fourfold: Improve forest health and resiliency, reduce hazardous fuels conditions and the potential impacts from wildfire to the National Forest and neighboring land, provide timber products, and decommission roads no longer needed for management. Competition for limited water, nutrients and sun in many highly stocked stands in the Salt project area has reduced the vigor, growth and resiliency of the mixed conifer species. Thinning is needed to improve tree resiliency to disturbance factors such as drought, insects, disease, and fires. Conversely, there are some stands in the suitable timber base that are understocked and are not growing well because of decadence. These stands are not meeting the growth and yield potential for those sites, and will not unless regeneration occurs. Reducing fuels and stocking levels through thinning and regeneration harvests requires the removal of trees, some of which have commercial value. Fuel loadings and excessive ladder fuels have created the potential for crown fire initiation and spread, resulting in fires that can pose a threat to National Forest System lands as well as private land near the Salt project area. Decreasing fuels in the Salt project area is needed to help reduce this threat of wildfire to forest resources and local communities. The Trinity County Community Wildfire Protection Plan (Trinity County Fire Council 2005, p. 61, 62) discusses the need for pre-fire fuel treatment in and around three dispersed residential communities that are all within 3 miles of the Salt project area (Post Mountain—1 mile west, Peanut—3 miles north, and Wildwood—3 miles east). Salt is the sixth in a series of watershed scale projects occurring in a south to north pattern. This project strategically connects fuels treatments from other projects to reduce the ability for crown fire transition and spread that can be a threat to these communities.

Roads can be a major source of sedimentation. Watersheds can be improved and future road maintenance costs reduced by removing this potential sediment source when road access is no longer needed for management activities.

The purpose and need for the Salt project are consistent with Management Plan Goals #3, #10, #11, #34, #35, #36, #39, and #40 Shasta-Trinity Land and Resource Management Plan (USFS 1995, p. 4-5 and 4-6).

Proposed Action

The Salt project would treat approximately 1,658 acres to improve forest health, reduce risks from fire and provide forest products, including:

• 984 acres of Intermediate Thinning from below, 31 units.

• 14 acres of Hand Fuel Treatment, 1 unit.

• 499 acres of Pre-commercial Thinning (plantations), 60 units.

• 103 acres of Intermediate Thinning (shaded fuel break), 1 unit.

• 58 acres of Regeneration Harvest with Green Tree Retention, 4 units.

These treatments are expected to produce approximately 4.8 million board feet (10,600 ccf) of merchantable saw timber and 4,710 tons (bone dry) of biomass. Timber prices are at a 15-year low. For this reason appropriated dollars and service contracts may be required to complete all the treatments planned.

Additionally, the proposed action would decommission approximately 8 miles of road no longer needed for management activities to improve watershed conditions. Approximately 3.4 miles proposed for decommissioning are “unclassified” roads, meaning they are abandoned or illegally developed roads. The remaining 4.6 miles are classified roads, meaning they are currently maintained and tracked as Forest Service System roads.

The Proposed Action was developed with design features to minimize or eliminate impacts from the vegetation treatments. Some of the design features include:

• Maintenance and reconstruction of 18 miles of roads that will be used to haul timber to reduce potential sedimentation.

• Snags and downed logs greater than 19 inches in diameter at breast height would be left on site for wildlife habitat. Snags felled for safety reasons will be left on site as downed logs.

• Five tons of logs per acre will be retained with a preference to have 4 to 6 logs per acre at the largest available diameter.

• All hardwoods that have a reasonable chance of surviving and thriving after stand treatments will be retained.

• Numerous detailed specifications and restrictions will be fully explained in the environmental impact statement and implemented to assure thinning within the intermittent and ephemeral riparian reserves meet the Aquatic Conservation Strategy Objectives.

• Limited Operating Periods would be applied to avoid direct adverse impacts to spotted owls if territories are occupied.

• Ground disturbing activity will not occur during wet weather conditions.

Responsible Official: The Responsible Official for this project is Donna Harmon, South Fork Management Unit District Ranger, Shasta-Trinity National Forest, P.O. Box 159, Hayfork, CA 96041.

Nature of Decision To Be Made: The District Ranger will decide whether to implement the proposed action, take an alternative action that meets the purpose and need, or take no action.

Scoping Process—Public Comment: In October of 2006 we anticipated an environmental assessment would be prepared for this project and requested input from the public through direct mailings and notice published in the Trinity Journal—a local newspaper. The proposed project was also listed quarterly in the Schedule of Proposed Environmental Actions (SOPA), a Shasta-Trinity National Forest publication. The U.S. Fish and Wildlife Service (USFWS) was consulted regarding the proposed action and members of the interdisciplinary planning team met with the National Marine Fisheries Service (NOAA Fisheries) and California Regional Water Quality Control Board (North Coast Region) to review the proposed action. Three public comments were received. Based on the initial scoping of the project including interdisciplinary team review, field work, public input and agency consultations, the District has modified the proposal and will prepare an environmental impact statement. A scoping letter for a proposed Environmental Impact Statement was mailed March 19, 2008, to twenty individuals and organizations. In addition, the notice was published in the Trinity Journal—a local newspaper. The proposed project is again listed in the Schedule of Proposed Environmental Actions, a Shasta-Trinity National Forest publication. Although comments are welcome throughout the planning process, providing your comments by April 22, 2008 will allow time for us to consider your input during alternative development and analysis. Information on the proposed action will also be posted on the forest Web site: http://www.fs.fed.us/r5/shastatrinity/projects.

Preliminary Issues

Issues identified during initial scoping include economics, how long treatments will be effective, cumulative effects from past management, fish habitat, non-critical spotted owl habitat, wildlife species viability.

Comment Requested

This notice of intent initiates the scoping process, which guides the development of the environmental impact statement. Comments submitted during this scoping process should be in writing and should be specific to the proposed action. The comments should describe as clearly and completely as possible any issues the commenter has with the proposal. The scoping process includes:

(a) Identifying potential issues.

(b) Identifying issues to be analyzed in depth.

(c) Eliminating non-significant issues or those previously covered by a relevant environmental analysis.

(d) Exploring additional alternatives.

(e) Identifying potential environmental effects of the proposed action and alternatives.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewers' position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.

Dated: March 19, 2008.
Donna F. Harmon,
South Fork Management Unit District Ranger, Shasta-Trinity National Forest.

[FR Doc. E8-5954 Filed 3-25-08; 8:45 am]

BILLING CODE 3410-11-M